FEDERAL COMMUNICATIONS COMMISSION

[OMB 3060-0678; FR ID 216076]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before May 28, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0678.

Title: Part 25 of the Federal Communications Commission's Rules Governing the Licensing of, and Spectrum Usage by, Commercial Earth Stations and Space Stations.

Form Number: FCC Form 312 (Main Form and Schedules A, B, and S), FCC Form 312-R.

Type of Review: Revision of an existing collection.

Respondents: Business or other for-profit entities, not-for-profit institutions.

Number of Respondents and Responses: 3,515 respondents and 3,567 responses.

Estimated Time per Response: 0.5-80 hours.

Frequency of Response: On occasion, one time, and annual reporting requirements; third-party disclosure requirement; recordkeeping requirement.

Obligation to Respond: Required to obtain or retain benefits. The Commission has statutory authority for the information collection requirements under 47 U.S.C. 154, 301, 302, 303, 307, 309, 310, 319, 332, 605, and 721.

Total Annual Burden: 27,176.

Annual Cost Burden: $3,923,887.

Needs and Uses: The Federal Communications Commission requests that the Office of Management and Budget (OMB) approve a revision of the information collection titled “Part 25 of the Federal Communications Commission's Rules Governing the Licensing of, and Spectrum Usage By, Commercial Earth Stations and Space Stations” under OMB Control No. 3060-0678, as a result of three recent rulemakings, as well as an update to the Commission's filing system for earth station and space station applications filed pursuant to part 25 of the Commission's rules.

On September 27, 2019, the Commission released a Report and Order, FCC 19-93, in IB Docket No. 06-160, titled “Amendment of the Commission's Policies and Rules for Processing Applications in the Direct Broadcast Satellite Service” (DBS Licensing Report and Order). The DBS Licensing Report and Order adopted a new licensing process for space stations in the Direct Broadcast Satellite Service (DBS). This new process allows applicants for DBS space station licenses to take advantage of a licensing process that parallels the Commission's streamlined part 25 satellite licensing rules for geostationary orbit (GSO) space stations in the fixed-satellite service (FSS). The Commission limited the regulatory burdens borne by applicants, while promoting new opportunities for efficient use of orbital spacing and spectrum by DBS licensees.

The Commission's action supports and encourages the increasing innovation in the DBS sector and helps to preserve U.S. leadership in space-based services and operations. This information collection will provide the Commission and the public with necessary information about this area of satellite operations. While this information collection represents an overall increase in the burden hours, the increase is due to an anticipated overall increase in number of applications as a result of additional applications being filed under the process adopted in the DBS Licensing Report and Order. This information collection serves the public interest by streamlining the collection of information and allowing the Commission to authorize DBS space stations under the new process established in the Report and Order. Specifically, the DBS Licensing Report and Order contains the following new or modified information collection requirements: space station applications for GSO space stations operating in the frequencies of the International Telecommunication Union (ITU) Appendices 30 and 30A (incorporated by reference, see 47 CFR 25.108) must include a statement that the proposed operation will take into account the applicable requirements of these Appendices of the ITU Radio Regulations and a demonstration that it is compatible with other U.S. ITU filings under Appendices 30 and 30A or, for any affected filings, a letter signed by the affected operator indicating that it consents to the new application. The changes adopted in the DBS Licensing Report and Order will result in a very small net annualized increase in burden hours to certain applicants and licensees under part 25. A request for revisions to the information collection resulting from DBS Licensing Report and Order was previously published in the Federal Register (see 85 FR 41980), but it has been updated and is now included in this revision request.

On November 19, 2020, the Commission released a Report and Order, FCC 20-159, in IB Docket No. 18-314, titled “Further Streamlining Part 25 Rules Governing Satellite Services” (Satellite Services Report and Order). The Satellite Services Report and Order streamlined the Commission's rules governing satellite services by creating an optional framework for authorizing both the blanket-licensed earth stations and space stations of a satellite system through a unified license. The Satellite Services Report and Order also permitted earth station applicants to certify compliance with relevant satellite licenses in lieu of providing duplicative or unnecessary technical demonstrations, aligned the build-out requirements for earth stations and space stations, and eliminated unnecessary reporting rules. These changes reduce regulatory burdens, simplify the Commission's licensing of satellite systems, and provide additional operational flexibility. The Satellite Services Report and Order affected two information collections: OMB Control Numbers 3060-1215 and 3060-0678. The Commission received OMB approval for changes under OMB Control No. 3060-1215 on August 26, 2021, as reported in 86 FR 52102. The Commission seeks approval for changes under OMB Control No. 3060-0678 through this request. The changes adopted in the Satellite Services Report and Order will result in a net annualized decrease in burden hours to applicants and licensees under part 25. This submission amends the previous submission to the OMB to reflect these changes.

On August 3, 2022, the Commission released a Report and Order, FCC 22-63, in IB Docket Nos. 20-330 and 22-273, titled “Amendment of Parts 2 and 25 of the Commission's Rules to Enable GSO Fixed-Satellite Service (Space-to-Earth) Operations in the 17.3-17.8 GHz Band, to Modernize Certain Rules Applicable to 17/24 GHz BSS Space Stations, and to Establish Off-Axis Uplink Power Limits for Extended Ka-Band FSS Operations” (17 GHz Report and Order). In the 17 GHz Report and Order, the Commission amended its rules to permit geostationary satellite orbit (GSO) space stations to use the 17.3-17.7 GHz band by geostationary satellite orbit (GSO) space stations in the fixed-satellite service (FSS) in the space-to-Earth direction on a co-primary basis with incumbent services and permit limited GSO FSS (space-to-Earth) use of the 17.7-17.8 GHz band on an unprotected basis with respect to fixed service operations. Specifically, the 17 GHz Report and Order contains the following new or modified information collection requirements:

• Certification of frequency coordination with the operator of the co-frequency space station or submission of an interference analysis demonstrating the compatibility of the proposed system with the co-frequency space station;

• Information as to earth station antenna characteristics to ensure that antennas are properly aimed and configured and that their signals are not likely to interfere with other systems; and

• Information pertaining to implementation of interference detection and mitigation plans to prevent and resolve interference issues.

The changes adopted in the 17 GHz Report and Order will result in a small net annualized increase in burden hours to certain applicants and licensees under part 25.

Finally, the Commission has updated the International Communications Filing System (ICFS)—which was formerly named the International Bureau Filing System, see 88 FR 21424—including updates to the Form 312, including Schedules A, B, and S, and Form 312-R. Applicants will be required to submit Form 312 (including Schedules A, B, and S) and Form 312-R through the updated, integrated web-based program. The updated version of Form 312 (including Schedules A, B, and S) and Form 312-R will include several minor changes to the information collection designed to provide clarity to applicants and Commission staff, reduce errors, and make overall improvements to the applicants' experience in completing the forms. Therefore, this supporting statement is being revised to reflect the new requirements, which are include the addition of several questions designed to better convey the overall information being requested in the form.

The changes will result in a very small net annualized increase in burden hours to certain applicants under part 25.

Federal Communications Commission.
Marlene Dortch,
Secretary, Office of the Secretary.

[FR Doc. 2024-09024 Filed 4-25-24; 8:45 am]

BILLING CODE 6712-01-P